DEPARTMENT OF ENERGY

Federal Energy Regulatory Commission

Notice of Effectiveness of Exempt Wholesale Generator

| Docket Nos.
Crocker Wind Farm, LLC | EG19-29-000
Wheelabrator Concord Company, L.P | EG19-30-000
Vermillion Power, L.L.C | EG19-31-000
Coolidge Power LLC | EG19-32-000
Valentine Solar, LLC | EG19-33-000
Techren Solar V LLC | EG19-34-000
226HC 8me LLC | EG19-35-000
Ranchero Wind Farm, LLC | EG19-36-000
Stryker 22 LLC | EG19-37-000
Plumsted 537 LLC | EG19-38-000
Pinetree Power LLC | EG19-40-000
Innovative Solar 54, LLC | EG19-41-000
CCP-PL Lessee IV, LLC | EG19-42-000
Innovative Solar 67, LLC | EG19-43-000
CCP-PL Lessee V, LLC | EG19-44-000

Take notice that during the month of February 2019, the status of the above-captioned entities as Exempt Wholesale Generators became effective by operation of the Commission's regulations. 18 CFR 366.7(a) (2018).

Dated: March 13, 2019.
Nathaniel J. Davis, Sr.,
Deputy Secretary

[FR Doc. 2019-05633 Filed 3-22-19; 8:45 am]

BILLING CODE 6717-01-P